DEPARTMENT OF ENERGY

Federal Energy Regulatory Commission

[Project No. 2879-012]

Green Mountain Power Corporation; Notice of Waiver Period for Water Quality Certification Application

On January 25, 2021, the Vermont Department of Environmental Conservation (Vermont DEC) notified the Federal Energy Regulatory Commission (Commission) that Green Mountain Power Corporation submitted an application for a Clean Water Act section 401(a)(1) water quality certification to Vermont DEC on January 22, 2021, in conjunction with the above captioned project. Pursuant to 40 CFR 121.6, we hereby notify the Vermont DEC of the following:

Date of Receipt of the Certification Request: January 22, 2021.

Reasonable Period of Time to Act on the Certification Request: One year.

Date Waiver Occurs for Failure to Act: January 22, 2022.

If Vermont DEC fails or refuses to act on the water quality certification request by the above waiver date, then the agency's certifying authority is deemed waived pursuant to section 401(a)(1) of the Clean Water Act, 33 U.S.C. 1341(a)(1).

Dated: January 26, 2021.
Kimberly D. Bose,
Secretary.

[FR Doc. 2021-02061 Filed 1-29-21; 8:45 am]

BILLING CODE 6717-01-P